DEPARTMENT OF TRANSPORTATION

Federal Aviation Administration

First Meeting: RTCA Special Committee 229, 406 MHz Emergency Locator Transmitters (ELTs) Joint With EUROCAE WG-98 Committee

AGENCY: Federal Aviation Administration (FAA), U.S. Department of Transportation (DOT).

ACTION: First Meeting 406 MHz Emergency Locator Transmitters (ELTs) Joint with EUROCAE WG-98 Committee.

SUMMARY: The FAA is issuing this notice to advise the public of the first meeting of the 406 MHz Emergency Locator Transmitters (ELTs) Joint with EUROCAE WG-98 Committee.

DATES: The meeting will be held March 10, 2014 from 10:00am-5:00pm and March 11-12, 2014 from 9:00 a.m.-5:00 p.m.

ADDRESSES: The meeting will be held at RTCA, Inc., 1150 18th Street NW., Suite 910, Washington, DC 20036.

FOR FURTHER INFORMATION CONTACT: The RTCA Secretariat, 1150 18th Street NW., Suite 910, Washington, DC 20036, or by telephone at (202) 833-9339, fax at (202) 833-9434, or Web site at http://www.rtca.org or you may contact Sophie Bousquet, sobousquet@rtca.org, 202-330-0663.

SUPPLEMENTARY INFORMATION: Pursuant to section 10(a) (2) of the Federal Advisory Committee Act (Pub. L. No. 92-463, 5 U.S.C., App.), notice is hereby given for a meeting of Special Committee 224. The agenda will include the following:

March 10-12

• Welcome/Introductions/Administrative Remarks

• Agenda Overview

• RTCA Overview

○ Background on RTCA and Process

• Review of ELT 2nd Generation context

○ “Specifications for new generation ELT”—Philippe Plantin de Hugues, BEA

○ “Introductory Presentation”—Charisse Green, FAA

○ “EASA presentation”—Xavier Audouze, EASA

○ “Analysis of ELT SAR events assisted by Cospas-Sarsat”—Dany Saint-Pierre, COSPAS-SARSAT

○ “MEOSAR update”—Chris O'Connors, NOAA

○ “Operational Requirement C/S G.008 update”—Allan Knox, USAF

○ “Second Generation Beacon efforts to date”—George Theodorakos, NASA

• WG-98 KoM (Nov 26-27, 2013) and ToR overview

• SC-229 Scope and Terms of Reference

• SC-229/WG-98 Structure and Organization of Work

○ Detailed Schedule

○ Workspace presentation

• Review of WG-98 preliminary comments on ED-62A and DO-204A

• Other Business

• Date and Place of Next Meetings

• Adjourn

Attendance is open to the interested public but limited to space availability. With the approval of the chairman, members of the public may present oral statements at the meeting.

Persons wishing to present statements or obtain information should contact the person listed in the FOR FURTHER INFORMATION CONTACT section. Members of the public may present a written statement to the committee at any time.

Issued in Washington, DC, on February 5, 2014.
Paige Williams,
Management Analyst, NextGen, Business Operations Group Federal Aviation Administration

[FR Doc. 2014-02976 Filed 2-10-14; 8:45 am]

BILLING CODE 4910-13-P